DEPARTMENT OF HOMELAND SECURITY

Federal Emergency Management Agency

44 CFR Part 67

[Docket ID FEMA-2011-0002; Docket No. FEMA-B-1021]

Proposed Flood Elevation Determinations

AGENCY: Federal Emergency Management Agency, DHS.

ACTION: Proposed rule; correction.

SUMMARY: On November 24, 2008, FEMA published in the Federal Register a proposed rule that contained an erroneous table. This notice provides corrections to that table, to be used in lieu of the information published at 73 FR 70944. The table provided here represents the flooding sources, location of referenced elevations, effective and modified elevations, and communities affected for White County, Arkansas, and Incorporated Areas. Specifically, it addresses the following flooding sources: Deener Creek, Gum Creek Flooding Effects, Little Red River, Overflow Creek Tributary, Red Cut Slough, Red Cut Slough Tributary, Red Cut Slough Tributary 2, and Red Cut Slough Tributary A.

DATES: Comments are to be submitted on or before June 23, 2011.

ADDRESSES: You may submit comments, identified by Docket No. FEMA-B-1021, to Luis Rodriguez, Chief, Engineering Management Branch, Federal Insurance and Mitigation Administration, Federal Emergency Management Agency, 500 C Street, SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064 or (e-mail) luis.rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 73 FR 70944, in the November 24, 2008, issue of the Federal Register, FEMA published a table under the authority of 44 CFR 67.4. The table, entitled “White County, Arkansas, and Incorporated Areas” addressed the flooding source Deener Creek. That table contained inaccurate information as to the location of referenced elevation, effective and modified elevation in feet, or communities affected for that flooding source. In addition, it did not include the following flooding sources: Gum Creek Flooding Effects, Little Red River, Overflow Creek Tributary, Red Cut Slough, Red Cut Slough Tributary, Red Cut Slough Tributary 2, and Red Cut Slough Tributary A. In this notice, FEMA is publishing a table containing the accurate information, to address these prior errors. The information provided below should be used in lieu of that previously published.

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
White County, Arkansas, and Incorporated Areas
Deener Creek | Approximately 2.08 miles upstream of the Rocky Branch confluence | None | +237 | Unincorporated Areas of White County.
| Approximately 2.42 miles upstream of the Rocky Branch confluence | None | +240
Gum Creek Flooding Effects | Just upstream of Collins Road | None | +213 | Unincorporated Areas of White County.
| Approximately 0.55 mile upstream of Missouri Pacific Railroad | None | +228
Little Red River | Just upstream of U.S. Route 67 | None | +211 | Unincorporated Areas of White County.
| Approximately 850 feet upstream of Davis Drive | None | +215
Overflow Creek Tributary | Approximately 500 feet downstream of State Highway 367 | None | +216 | Unincorporated Areas of White County.
| Approximately 850 feet upstream of State Highway 367 | None | +234
Red Cut Slough | Just upstream of Missouri Pacific Railroad | None | +220 | City of Beebe, Unincorporated Areas of White County.
| Approximately 1,044 feet downstream of the Red Cut Slough Tributary confluence | None | +220
Red Cut Slough Tributary | Just upstream of State Highway 367 | None | +224 | City of Beebe, Unincorporated Areas of White County.
| Just upstream of West Mississippi Street | None | +235
Red Cut Slough Tributary 2 | At the Red Cut Slough confluence | None | +220 | City of Beebe, Unincorporated Areas of White County.
| Approximately 1,050 feet downstream of West Center Street | None | +230
Red Cut Slough Tributary A | Just upstream of Missouri Pacific Railroad | None | +224 | City of Beebe, Unincorporated Areas of White County.
| Approximately 128 feet upstream of California Street | None | +229
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Beebe
Maps are available for inspection at 321 North Elm Street, Beebe, AR 72012.
Unincorporated Areas of White County
Maps are available for inspection at 119 West Arch Avenue, Searcy, AR 72143.

(Catalog of Federal Domestic Assistance No. 97.022, “Flood Insurance.”)

Dated: February 7, 2011.
Sandra K. Knight,
Deputy Federal Insurance and Mitigation Administrator, Mitigation, Department of Homeland Security, Federal Emergency Management Agency.

[FR Doc. 2011-7082 Filed 3-24-11; 8:45 am]

BILLING CODE 9110-12-P